DEPARTMENT OF ENERGY

Federal Energy Regulatory Commission

[Docket No. ER01-200-000, et al.]

Cinergy Services, Inc., et al. Electric Rate and Corporate Regulation Filings

October 30, 2000.

Take notice that the following filings have been made with the Commission:

1. Cinergy Services, Inc.

[Docket No. ER01-200-000]

On October 23, 2000, Cinergy Services, Inc. (Services), Cincinnati Gas & Electric Company (CG&E), and PSI Energy, Inc. (collectively, Cinergy) filed a notice of termination of the Operating Agreement, dated March 2, 1994, by and among CG&E, PSI, and Services. The Operating Agreement is designated as Cinergy Operating Companies Rate Schedule FERC No. 1. Cinergy has requested that termination take effect on December 31, 2000.

In its filing, Cinergy states that it intends to commence a dialogue with affected parties regarding potential alternatives that might allow the Operating Agreement to be replaced with a new agreement(s) that continues some level of coordinated generation operations, but, at, the same time, adequately reflects the changed circumstances associated with the initiation of retail choice in Ohio. Cinergy also states that it believes the Commission can play a important role in facilitating the conference.

To initiate these discussions, a conference will be held at 1:00 EST on November 6, 2000, at the Columbia Club, Boardroom, 121 Monument Circle, Indianapolis, Indiana. The Commission's Dispute Resolution Service will be present to help facilitate the conference. The conference will address, among other matters, whether a third party neutral should be assigned to the process.

All parties are invited to attend. If a party has any questions regarding the conference, please call John S. Moot at (202) 371-7310, or Richard Miles at 1 (877) FERC ADR (337-2237) or (202) 208-0702.

2. PacifiCorp

[Docket No. EC01-8-000]

Take notice that PacifiCorp, on October 16, 2000, tendered for filing in accordance with Section 203 of the Federal Power Act and 18 CFR part 33 of the Commission's Rules and Regulations, an application seeking an order authorizing PacifiCorp to sell to PPM One LLC, a PacifiCorp affiliate, specified transmission facilities associated with PacifiCorp's sale of three wind generation facilities located in Riverside County, California. The application also seeks Federal Energy Regulatory Commission authorization for the assignment of the current PacifiCorp-Southern California Edison Company wholesale distribution agreement and the assignment of the current PacifiCorp-California Independent System Operator participating generator agreement to purchaser.

Comment date: November 6, 2000, in accordance with Standard Paragraph E at the end of this notice.

3. Calpine Corporation; Dighton Power Associates L.P.; Rumford Power Associates L.P.; Tiverton Power Associates L.P.

[Docket No. EC01-10-000]

Take notice that on October 23, 2000, Calpine Corporation (Calpine), Dighton Power Associates L.P. (Dighton), Rumford Power Associates L.P. (Rumford), and Tiverton Power Associates L.P. (Tiverton) (jointly, Applicants) submitted for filing an application under section 203 of the Federal Power Act for authorization for the transfer of certain general and limited partnership interests in Dighton, Rumford, and Tiverton from affiliates of Energy Management, Inc. to Calpine or its affiliates.

Comment date: November 13, 2000, in accordance with Standard Paragraph E at the end of this notice.

4. Commonwealth Edison Company

[Docket No. ER01-220-000]

Take notice that on October 25, 2000, Commonwealth Edison Company (ComEd), tendered for filing an unexecuted Short-Term Firm Transmission Service Agreement with LG&E Energy Marketing Inc. (LGE) under the terms of ComEd's Open Access Transmission Tariff (OATT).

ComEd requests an effective date of October 1, 2000, for the agreement with LGE, and accordingly, seeks waiver of the Commission's notice requirements.

Comment date: November 15, 2000, in accordance with Standard Paragraph E at the end of this notice.

5. Alliant Energy Corporate Services Inc.

[Docket No. ER01-222-000]

Take notice that on October 25, 2000, Alliant Energy Corporate Services Inc. (ALTM), tendered for filing a signed Service Agreement under ALTM's Market Based Wholesale Power Sales Tariff (MR-1) between itself and Dynegy Power Marketing, Inc. (DYPM).

ALTM respectfully requests a waiver of the Commission's notice requirements, and an effective date of October 24, 2000.

Comment date: November 15, 2000, in accordance with Standard Paragraph E at the end of this notice.

6. Commonwealth Edison Company

[Docket No. ER00-3788-000]

Take notice that on October 25, 2000, Commonwealth Edison Company (ComEd), tendered for filing revisions to the Network Service Agreements filed with the Commission on September 29, 2000 in the above-referenced docket.

Comment date: November 15, 2000, in accordance with Standard Paragraph E at the end of this notice.

7. Central Illinois Light Company

[Docket No. ER00-3386-001]

Take notice that on October 25, 2000, Central Illinois Light Company (CILCO), 300 Liberty Street, Peoria, Illinois 61602, made a compliance filing with the Commission concerning an Interconnection Agreement with Bio-Energy Partners for Generation Interconnection and Parallel Operation.

Copies of the filing were served on the affected customer and the Illinois Commerce Commission.

Comment date: November 15, 2000, in accordance with Standard Paragraph E at the end of this notice.

8. Northern States Power Company (Minnesota Company); Northern States Power Company (Wisconsin Company)

[Docket No. ER00-3663-001]

Take notice on October 25, 2000, Xcel Energy Services, Inc., in compliance with FERC Order No. 614, tendered for filing a Short-Term Market-Based Electric Service Agreement between NSP and Madison Gas & Electric Company (Customer).

Comment date: November 15, 2000, in accordance with Standard Paragraph E at the end of this notice.

9. Tucson Electric Power Company

[Docket No. ER01-208-000]

Take notice that on October 25, 2000, Tucson Electric Power Company (Tucson), tendered an errata to its October 24, 2000 Revised Open Access Transmission Tariff Filing.

Comment date: November 15, 2000, in accordance with Standard Paragraph E at the end of this notice.

10. Tampa Electric Company

[Docket No. ER01-217-000]

Take notice that on October 25, 2000, Tampa Electric Company (Tampa Electric) tendered for filing a service agreement with Cargill Fertilizer, Inc. (Cargill Fertilizer) for non-firm point-to-point transmission service under Tampa Electric's open access transmission tariff.

Tampa Electric proposes an effective date of October 25, 2000, for the tendered service agreement, and therefore requests waiver of the Commission's notice requirement.

Copies of the filing have been served on Cargill Fertilizer and the Florida Public Service Commission.

Comment date: November 15, 2000, in accordance with Standard Paragraph E at the end of this notice.

11. Wisconsin Electric Power Corp.

[Docket No. ER01-218-000]

Take notice that on October 25, 2000, Wisconsin Electric Power Corp. tendered for filing with the Federal Energy Regulatory Commission pursuant to Section 35.13 of the Commission's Regulations, 18 CFR 35.13, one revised version of its FERC Electric Tariff Second Revised Volume No. 2 and five new service schedules (Schedules F,G, H, I, and J) pursuant to which Wisconsin Electric Power Corp., will offer five new power services at “up to” cost-based rates. The new services offered will be Dynamic Regulation and Frequency Response Service, Energy Imbalance Service, Dynamic Capacity and Energy Service, Spinning Reserve Service, and Supplemental Reserve Service. The services will be “off-system” versions of the services currently available to Wisconsin Electric Power Co.'s customers under Wisconsin Energy Corporation Operating Companies' open access transmission tariff, FERC Electric Tariff First Revised Volume No. 1.

Comment date: November 15, 2000, in accordance with Standard Paragraph E at the end of this notice.

12. Public Service Company of New Mexico

[Docket No. ER01-221-000]

Take notice that on October 25, 2000, Public Service Company of New Mexico (PNM), tendered for filing an executed Transaction Confirmation Agreement (dated October 13, 2000) under Service Schedule B to the Western Systems Power Pool (WSPP) Agreement, defining services to be provided between PNM and Utah Associated Municipal Power Systems (UAMPS). The Transaction Confirmation Agreement is filed pursuant to WSPP requirements to file any agreement more than one year in duration, and PNM is requesting an effective date of October 1, 2000. PNM's filing is available for public inspection at its offices in Albuquerque, New Mexico.

Copies of the filing have been sent to UAMPS, to the general counsel of WSPP, and to the New Mexico Public Regulation Commission.

Comment date: November 15, 2000, in accordance with Standard Paragraph E at the end of this notice.

13. Reliant Energy Shelby County, LP

[Docket No. ER01-223-000]

Take notice that on October 25, 2000, Reliant Energy Shelby County, LP (Reliant Shelby County), tendered for filing a Master Commodity Sale Agreement between Reliant Energy Services, Inc. (RES) as agent for Reliant Shelby County and Wisconsin Electric Power Company (WEPCO) establishing WEPCO as a customer under Reliant Shelby County's market-based rate tariff.

Reliant Shelby County requests an effective date of October 2, 2000 for the service agreement.

Reliant Shelby County states that a copy of the filing was served on WEPCO.

Comment date: November 15, 2000, in accordance with Standard Paragraph E at the end of this notice.

14. Duquesne Light Company

[Docket No. ER01-224-000]

Take notice that on October 25, 2000, Duquesne Light Company (DLC), tendered a Service Agreement dated October 24, 2000 with The Detroit Edison Company under DLC's Open Access Transmission Tariff (Tariff). The Service Agreement adds The Detroit Edison Company as a customer under the Tariff.

DLC requests an effective date of October 24, 2000 for the Service Agreement.

Comment date: November 15, 2000, in accordance with Standard Paragraph E at the end of this notice.

15. Duquesne Light Company

[Docket No. ER01-225-000]

Take notice that on October 25, 2000, Duquesne Light Company (DLC), tendered a Service Agreement dated October 24, 2000 with The Detroit Edison Company under DLC's Open Access Transmission Tariff (Tariff). The Service Agreement adds The Detroit Edison Company as a customer under the Tariff.

DLC requests an effective date of October 24, 2000, for the Service Agreement.

Comment date: November 15, 2000, in accordance with Standard Paragraph E at the end of this notice.

16. California Independent System Operator Corporation

[Docket No. ER01-226-000]

Take notice that on October 25, 2000, the California Independent System Operator Corporation, tendered for filing a Meter Service Agreement for ISO Metered Entities between the ISO and Energy 2001, Inc., for acceptance by the Commission.

The ISO states that this filing has been served on Energy 2001, Inc., and the California Public Utilities Commission.

The ISO is requesting waiver of the 60-day notice requirement to allow the Meter Service Agreement for ISO Metered Entities to be made effective October 11, 2000.

Comment date: November 15, 2000, in accordance with Standard Paragraph E at the end of this notice.

17. California Independent System Operator Corporation

[Docket No. ER01-227-000]

Take notice that on October 25, 2000, the California Independent System Operator Corporation, tendered for filing a Participating Generator Agreement between the ISO and Energy 2001, Inc., for acceptance by the Commission.

The ISO states that this filing has been served on Energy 2001, Inc., and the California Public Utilities Commission.

The ISO is requesting waiver of the 60-day notice requirement to allow the Participating Generator Agreement to be made effective October 11, 2000.

Comment date: November 15, 2000, in accordance with Standard Paragraph E at the end of this notice.

18. Consumers Energy Company

[Docket No. ER01-229-000]

Take notice that on October 25, 2000, Consumers Energy Company (Consumers) tendered for filing executed Firm and Non-Firm Point to Point Transmission Service Agreements with Nordic Marketing, LLC (Customer) pursuant to the Joint Open Access Transmission Service Tariff filed on December 31, 1996 by Consumers and The Detroit Edison Company (Detroit Edison).

The agreements have effective dates of September 26, 2000.

Copies of the filed agreement were served upon the Michigan Public Service Commission, Detroit Edison, and the Customer.

Comment date: November 15, 2000, in accordance with Standard Paragraph E at the end of this notice.

19. Consumers Energy Company

[Docket No. ER01-235-000]

Take notice that on October 25, 2000, Consumers Energy Company (Consumers), tendered for filing executed Firm and Non-Firm Point to Point Transmission Service Agreements with Wisconsin Electric Power Company (Customer) pursuant to the Joint Open Access Transmission Service Tariff filed on December 31, 1996 by Consumers and The Detroit Edison Company (Detroit Edison).

The agreements have effective dates of October 23, 2000.

Copies of the filed agreement were served upon the Michigan Public Service Commission, Detroit Edison, and the Customer.

Comment date: November 15, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-28597 Filed 11-07-00; 8:45 am]

BILLING CODE 6717-01-P